DEPARTMENT OF THE INTERIOR

Fish and Wildlife Service

[FWS-R1-ES-2015-0026; FXES11120100000-167-FF01E00000]

Programmatic Draft Environmental Impact Statement for Invasive Rodent and Mongoose Control and Eradication on U.S. Pacific Islands Within the National Wildlife Refuge System and in Native Ecosystems in Hawaii

AGENCY: Fish and Wildlife Service, Interior.

ACTION: Notice of intent; reopening of public scoping and comment period.

SUMMARY: We, the U.S. Fish and Wildlife Service (Service), in coordination with the State of Hawaii Department of Land and Natural Resources (DLNR), Division of Forestry and Wildlife (DOFAW), announce the reopening of the public scoping process and comment period for the preparation of a Programmatic Draft Environmental Impact Statement for Invasive Rodent and Mongoose Control and Eradication on U.S. Pacific Islands within the National Wildlife Refuge System and in Native Ecosystems in Hawaii (PDEIS). We are reopening the public scoping process and comment period for an additional 120 days.

DATES: Written Comments: To ensure consideration, we must receive your written comments on or before April 7, 2016 to ensure all relevant information and recommendations are considered during the PDEIS process. Public scoping meetings will be held at a later date. Meeting dates, locations, and times will be announced in a future notice and on the Service's Web site at http://www.fws.gov/pacificislands/nativerestoration/.

ADDRESSES: Send your comments regarding the proposed action and the proposed PDEIS by one of the following methods:

• Electronically: www.regulations.gov. Follow the instructions for submitting comments on Docket No. FWS-R1-ES-2015-0026.

• U.S. Mail: Public Comments Processing, Attn: FWS-R1-ES-2015-0026; Division of Policy and Directives Management; U.S. Fish and Wildlife Service, MS: BPHC; 5275 Leesburg Pike, Falls Church, VA 22041-3803.

FOR FURTHER INFORMATION CONTACT: Mary Abrams, Field Supervisor, U.S. Fish and Wildlife Service, Pacific Islands Fish and Wildlife Office, 300 Ala Moana Boulevard, Room 3-122, Honolulu, HI 96850; telephone 808-792-9400). If you use a telecommunications device for the deaf, please call the Federal Information Relay Service at 800-877-8339.

SUPPLEMENTARY INFORMATION: On June 30, 2015, we published a Federal Register notice (80 FR 37286), in coordination with the State of Hawaii DLNR, DOFAW, announcing our intent to prepare a PDEIS. We originally opened a 120-day comment period from June 30, 2015, to October 28, 2015 (80 FR 37286). For background and more information, please see that notice. We are reopening the public comment period for an additional 120 days to be able to hold public scoping meetings in partnership with the DOFAW. At a later date, the DOFAW will be publishing their Environmental Impact Statement preparation notice, as defined by chapters 201N and 343 of the Hawaii Revised Statutes and title 11, chapter 200 of the Hawaii Administrative Rules, in The Environmental Bulletin published by the Hawaii State Office of Environmental Quality Control. We are seeking comments, information, and suggestions from the public, interested government agencies, Native Hawaiian organizations, the scientific community, and other interested parties regarding the objectives, proposed action, and alternatives identified and described. If you have previously submitted comments, please do not resubmit them. We have already incorporated them in the public record and will fully consider them in the development of the PDEIS.

Public Availability of Comments

All comments and materials we receive become part of the public record associated with this action. Before including your address, phone number, email address, or other personally identifiable information in your comments, you should be aware that your entire comment—including your personally identifiable information—may be made publicly available at any time. While you can ask us in your comment to withhold your personally identifiable information from public review, we cannot guarantee that we will be able to do so. Comments and materials we receive, as well as supporting documentation we use in preparing the PDEIS, will be available for public inspection by appointment, during normal business hours, at our Pacific Islands Fish and Wildlife Office (see ADDRESSES).

Authority

The environmental review of this project will be conducted in accordance with the requirements of NEPA of 1969, as amended (42 U.S.C. 4321 et seq.), Council on Environmental Quality Regulations (40 CFR parts 1500-1508), and other applicable Federal laws and regulations. This notice is being furnished in accordance with 40 CFR 1501.7 of the NEPA regulations to obtain suggestions and information from other agencies and the public on the scope of issues and alternatives to be addressed in the PDEIS.

Dated: November 13, 2015.
Theresa E. Rabot,
Acting Deputy Regional Director, Pacific Region, U.S. Fish and Wildlife Service, Portland, Oregon.

[FR Doc. 2015-30976 Filed 12-8-15; 8:45 am]

BILLING CODE 4333-15-P